DEPARTMENT OF COMMERCE

National Oceanic and Atmospheric Administration

RIN 0648-XJ70

Endangered and Threatened Species; Take of Anadromous Fish

AGENCY: National Marine Fisheries Service (NMFS), National Oceanic and Atmospheric Administration (NOAA), Commerce.

ACTION: Applications for one scientific research permit, two permit modifications, and three permit renewals.

SUMMARY: Notice is hereby given that NMFS has received six scientific research permit application requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific standard time on September 15, 2008.

ADDRESSES: Written comments on the applications should be sent to the Protected Resources Division, NMFS, 1201 NE Lloyd Blvd., Suite 1100, Portland, OR 97232-1274. Comments may also be sent via fax to 503-230-5441 or by e-mail to resapps.nwr@noaa.gov.

FOR FURTHER INFORMATION CONTACT: Garth Griffin, Portland, OR (503) 231-2005, Fax: (503) 230-5441, e-mail: Garth.Griffin@noaa.gov). Permit application instructions are available from the address above.

SUPPLEMENTARY INFORMATION:

Species Covered in This Notice

The following listed species are covered in this notice:

Chinook salmon (Oncorhynchus tshawytscha): threatened lower Columbia River (LCR), threatened upper Willamette River (UWR), endangered upper Columbia River (UCR), threatened Snake River (SR) spring/summer (spr/sum), threatened SR fall, threatened Puget Sound (PS).

Chum salmon (O. keta): threatened Columbia River (CR), threatened Hood Canal summer (HCS).

Steelhead (O. mykiss): threatened LCR, threatened UWR, threatened middle Columbia River (MCR), threatened SR, endangered UCR, threatened PS.

Coho salmon (O. kisutch): threatened LCR, threatened Oregon Coast (OC).

Sockeye salmon (O. nerka): endangered SR.

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1290 - Modification

Permit 1290 currently authorizes the Northwest Fisheries Science Center (NWFSC) to take juvenile UCR Chinook salmon, UCR steelhead, SN spring/summer Chinook salmon, SR fall Chinook salmon, SR sockeye salmon, SR steelhead, MCR steelhead, UWR Chinook salmon, UWR steelhead, LCR Chinook salmon, LCR coho salmon, LCR steelhead, and CR chum salmon associated with research to be conducted in the Columbia River estuary. They are asking to modify the permit so they may be allowed to take adult salmon and steelhead and a larger number of juveniles. The purposes of the research are to (1) determine the prevalence and intensity of pathogens in juvenile salmonids and (2) investigate the relationship between forage fish populations in the estuary and salmonid estuarine/marine survival. The research would benefit the fish by contributing information on (1) the extent to which diseases affect the growth and survival of juvenile salmonids in the estuarine and early ocean environments and (2) the relative relationship between forage fish abundance and salmonid survival in the estuary and marine environments. If adequate fish samples cannot be obtained from the Columbia River estuary, the researchers seek to collect fish at the juvenile bypass at Bonneville Dam. Juvenile salmonids would be variously collected (using beach and purse seines), anesthetized, weighed, scanned for tags, fin clipped, sampled for stomach contents, allowed to recover from the anesthesia, and released. Not all fish would have all these procedures, but all would be anesthetized. Some juvenile salmonids would be killed for pathogen analyses and a few more may die as an unintended result of the research. Any fish that are killed unintentionally will be retained in place those intentionally killed.

Permit 1484 - Renewal

The Washington Department of Natural Resources (WDNR) is requesting to renew permit 1484 for a period of five years. The original permit was in place for five years with one modification; it expires on December 31, 2008. Under the new permit, the WDNR would conduct research that would annually take juvenile PS chinook salmon, LCR chinook salmon, LCR steelhead, and CR chum salmon in WDNR-managed forest lands. The purpose of the research is to conduct surveys to identify stream types and thereby benefit listed species by increasing the size of riparian zones and protecting the habitat needed for healthy salmonid populations. The WDNR proposes to capture the fish (using backpack electrofishing equipment), identify, and release them. The WDNR does not intend to kill any of the fish being captured, but a small number may die as an unintended result of the research activities.

Permit 1487 - Renewal

The U.S. Fish and Wildlife Service (FWS) is requesting to renew permit 1487 for a period of five years. The original permit was in place for five years with one modification; it expires on December 31, 2008. Under the new permit, the FWS would annually capture, handle, and release juvenile LCR steelhead, LCR chinook salmon, LCR coho and CR chum salmon. The research would take place in Cedar Creek, a tributary to the Lewis River in Washington State. The purpose of the research is to estimate the abundance and determine migration timing of recently-metamorphosed lamprey and juvenile salmonids. The research would benefit the fish by providing information on the population characteristics and, ultimately, would help managers assess population responses to recovery measures.

The FWS proposes to capture the fish using backpack electrofishing equipment, pot traps, rotary screw traps, inclined-plane traps, and possibly other types of traps. Once captured, the salmonids would be held temporarily in buckets of aerated water, identified, and released. The FWS does not intend to kill any of the fish being captured, but a small number may die as an unintended result of the research activities.

Permit 1559 - Renewal

The Oregon State University (OSU) is requesting to renew permit 1559 for a period of one year. The original permit was in place for three years with one amendment; it expires on December 31, 2008. Under the new permit, the OSU would take adult and juvenile PS Chinook salmon, PS steelhead, UCR Chinook salmon, UCR steelhead, SR spring/summer Chinook salmon, SR fall Chinook salmon, SR steelhead, MCR steelhead, UWR Chinook salmon, UWR steelhead, LCR Chinook salmon, LCR coho salmon, LCR steelhead, CR chum salmon, and OC coho salmon in randomly-selected river systems in Oregon and Washington. The research is designed to help managers assess the condition of rivers and streams in the 12 coterminous western states and evaluate and develop scientifically and statistically rigorous field protocols for assessing large (unwadeable) rivers. The study would benefit listed salmonids by providing baseline information about water quality in the study areas and helping managers enforce the Clean Water Act in those river systems where listed fish are present. The OSU proposes to capture fish (using raft-mounted electrofishing equipment), sample them for biological information, and release them. The researchers will seek to avoid adult salmonids, but some may be handled as an unintentional result of the sampling. Moreover, OSU does not intend to kill any fish being captured but some juvenile fish may die as an unintended result of the research activities.

Permit 1609 - Modification

The R2 Resource Consultants, Inc. (R2) is asking to modify Permit 1609. The permit currently authorizes R2 to take juvenile PS Chinook and steelhead during research to designed to determine the relative abundance and distribution of juvenile salmonids in relation to mainstem and off-channel habitat types in the Sultan River, Puget Sound, Washington. The modification would increase the take of juvenile Chinook and extend the research period through 2009. Information gathered by this study will be used to help develop the Henry M. Jackson Hydroelectric Project management plan. The study will help resource managers design water management strategies and habitat protection and restoration projects for salmonids. The researchers propose to conduct snorkeling and electrofishing surveys for juvenile salmonids. Supplemental sampling may also be conducted using minnow traps. Fish will be captured, anesthetized, measured, checked for hatchery marks, allowed to recover, and released. The researchers do not intend to kill any listed fish but a small number may die as an unintended result of the activities.

Permit 13434

The Washington State Department of Ecology (DOE) is requesting a two-year research permit to take juvenile and adult UCR spring-run Chinook salmon, UCR steelhead, SR spring/summer Chinook salmon, SR fall Chinook salmon, SR sockeye salmon, MCR steelhead, LCR Chinook salmon, LCR coho salmon, LCR steelhead, CR chum salmon, PS Chinook salmon, PS steelhead, and HCS chum salmon. The DOE would conduct surveys for the Environmental Protection Agency's National Rivers and Streams Assessment project. The purpose of the research is to assess the condition of Washington's rivers and streams and establish a baseline description for future comparisons. The information gathered by this research would benefit listed salmonids by helping resource managers evaluate water quality conditions and ecological health of habitats occupied by listed salmonids. The applicant proposes to capture fish with backpack and boat electrofishing equipment in randomly selected streams throughout Washington. Listed fish would be enumerated and immediately released. The applicant does not intend to kill any listed fish species, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: August 12, 2008.
Angela Somma,
Chief, Endangered Species Division, Office of Protected Resources, National Marine Fisheries Service.

[FR Doc. E8-18945 Filed 8-14-08; 8:45 am]

BILLING CODE 3510-22-S